SECURITIES AND EXCHANGE COMMISSION

[Release No. 34-83829; File No. SR-NYSEAMER-2018-22]

Self-Regulatory Organizations; NYSE American LLC; Notice of Withdrawal of a Proposed Rule Change To Amend Exchange Rule 7.35E Relating to the Auction Reference Price for a Trading Halt Auction Following a Regulatory Halt

August 10, 2018.

On May 15, 2018, NYSE American LLC (“Exchange” or “NYSE American”) filed with the Securities and Exchange Commission (“Commission”), pursuant to Section 19(b)(1) of the Securities Exchange Act of 1934 (“Act”) ¹ and Rule 19b-4 thereunder,² a proposed rule change to amend Exchange Rule 7.35E relating to the Auction Reference Price for a Trading Halt Auction following a regulatory halt. The proposed rule change was published for comment in the Federal Register on June 5, 2018.³ On July 18, 2018, pursuant to Section 19(b)(2) of the Act,⁴ the Commission designated a longer period within which to approve the proposed rule change, disapprove the proposed rule change, or institute proceedings to determine whether to disapprove the proposed rule change.⁵ The Commission has received one comment letter in response to the proposed rule change.⁶

¹ 15 U.S.C. 78s(b)(1).

² 17 CFR 240.19b-4.

³ See Securities Exchange Act Release No. 83341 (May 30, 2018), 83 FR 26121 (Jun. 5, 2018) (Notice).

⁴ 15 U.S.C. 78s(b)(2).

⁵ See Securities Exchange Act Release No. 83668 (Jul. 18, 2018), 83 FR 35040 (Jul. 24, 2018).

⁶ See Letter from Duane Fiedler, to Secretary, Securities and Exchange Commission (Jun. 23, 2018).

On August 10, 2018, the Exchange withdrew the proposed rule change (SR-NYSEAmer-2018-22).

⁷ 17 CFR 200.30-3(a)(12).

For the Commission, by the Division of Trading and Markets, pursuant to delegated authority.⁷
Brent J. Fields,
Secretary.

[FR Doc. 2018-17632 Filed 8-15-18; 8:45 am]

BILLING CODE 8011-01-P